DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (collectively, the “agencies”) may not conduct or sponsor, and the respondent is not required to respond to, an information collection unless it displays a currently valid Office of Management and Budget (OMB) control number. The Federal Financial Institutions Examination Council (FFIEC), of which the agencies are members, has approved the agencies' publication for public comment of a proposal to revise and extend for three years, the Foreign Branch Report of Condition (FFIEC 030) and the Abbreviated Foreign Branch Report of Condition (FFIEC 030S), which are currently approved collections of information. The agencies are requesting comment on proposed revisions to the FFIEC 030 report that would incorporate new line items from the FR 2502q, Quarterly Report of Assets and Liabilities of Large Foreign Offices of U.S. Banks (OMB Control No. 7100-0079). The revisions are proposed to take effect as of the June 30, 2024, report date. There are no proposed revisions to the FFIEC 030S at this time.

DATES: Comments must be submitted on or before March 19, 2024.

ADDRESSES: Interested parties are invited to submit written comments to any or all of the agencies. All comments, which should refer to the “FFIEC 030 or FFIEC 030S,” will be shared among the agencies.

OCC: You may submit comments, which should refer to “FFIEC 030 or FFIEC 030S,” by any of the following methods:

• Email: prainfo@occ.treas.gov.

• Mail: Chief Counsel's Office, Attention: Comment Processing, Office of the Comptroller of the Currency, Attention: 1557-0099, 400 7th Street SW, Suite 3E-218, Washington, DC 20219.

• Hand Delivery/Courier: 400 7th Street SW, Suite 3E-218, Washington, DC 20219.

• Fax: (571) 293-4835.

Instructions: You must include “OCC” as the agency name and “1557-0099” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Following the close of this notice's 60-day comment period, the OCC will publish a second notice with a 30-day comment period. You may review comments and other related materials that pertain to this information collection beginning on the date of publication of the second notice for this collection by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0099” or “FFIEC 030 or FFIEC 030S.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “FFIEC 030 or FFIEC 030S,” by any of the following methods:

• Agency Website: http://www.federalreserve.gov. Follow the instructions for submitting comments at: http://www.federalreserve.gov/generalinfo/foia/ProposedRegs.cfm.

• Email: regs.comments@federalreserve.gov. Include “FFIEC 030 or FFIEC 030S” in the subject line of the message.

• Fax: (202) 395-6974.

• Mail: Ann E. Misback, Secretary, Board of Governors of the Federal Reserve System, 20th Street and Constitution Avenue NW, Washington, DC 20551.

All public comments are available on the Board's Website at https://www.federalreserve.gov/apps/foia/proposedregs.aspx as submitted, unless modified for technical reasons. Accordingly, your comments will not be edited to remove any identifying or contact information.

FDIC: You may submit comments, which should refer to “FFIEC 030 or FFIEC 030S,” by any of the following methods:

• Agency Website: https://www.fdic.gov/resources/regulations/federal-register-publications/. Follow the instructions for submitting comments on the FDIC's website.

• Email: comments@FDIC.gov. Include “FFIEC 030 or FFIEC 030S” in the subject line of the message.

• Mail: Manuel E. Cabeza, Counsel, Attn: Comments, Room MB-3128, Federal Deposit Insurance Corporation, 550 17th Street NW, Washington, DC 20429.

• Hand Delivery: Comments may be hand delivered to the guard station at the rear of the 550 17th Street Building (located on F Street) on business days between 7:00 a.m. and 5:00 p.m.

• Public Inspection: All comments received will be posted without change to https://www.fdic.gov/resources/regulations/federal-register-publications/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW, Washington, DC 20503; by fax to (202) 395-6974; or by email to oira_submission@omb.eop.gov.

FOR FURTHER INFORMATION CONTACT: For further information about the proposed revisions to the information collections discussed in this notice, please contact any of the agency staff whose names appear below. In addition, copies of the report forms for the FFIEC 030 and FFIEC 030S can be obtained at the FFIEC's website (https://www.ffiec.gov/ffiec_report_forms.htm).

OCC: Kevin Korzeniewski, Counsel, (202) 649-5490, Chief Counsel's Office, Office of the Comptroller of the Currency. If you are deaf, hard of hearing, or have a speech disability, please dial 7-1-1 to access telecommunications relay services.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION: The agencies propose to extend for three years, with revision, the FFIEC 030 and the FFIEC 030S.

Report Title: Foreign Branch Report of Condition.

Form Number: FFIEC 030 and FFIEC 030S.

Frequency of Response: Annually, and quarterly for significant branches.

Affected Public: Business of other for profit.

OCC

OMB Control Number: 1557-0099.

Estimated Number of Respondents: 58 quarterly respondents (FFIEC 030); 45 annual respondents (FFIEC 030); 9 annual respondents (FFIEC 030S).

Estimated Average Burden per Response: 3.91 burden hours (FFIEC 030 Quarterly); 2.98 burden hours (FFIEC 030 Annual) 0.95 burden hours (FFIEC 030S).

Estimated Total Annual Burden: 1,049.77 burden hours.

Board

OMB Control Number: 7100-0071.

Estimated Number of Respondents: 21 quarterly respondents (FFIEC 030); 12 annual respondents (FFIEC 030); 10 annual respondents (FFIEC 030S).

Estimated Average Burden per Response: 3.91 burden hours (FFIEC 030 Quarterly); 2.98 burden hours (FFIEC 030 Annual); 0.95 burden hours (FFIEC 030S).

Estimated Total Annual Burden: 373.70 burden hours.

FDIC

OMB Control Number: 3064-0011 (FDIC).

Estimated Number of Respondents: 0 quarterly respondents (FFIEC 030); 3 annual respondents (FFIEC 030); 3 annual respondents (FFIEC 030S).

Estimated Average Burden per Response: 3.91 burden hours (FFIEC 030 Quarterly); 2.98 burden hours (FFIEC 030 Annual); 0.95 burden hours (FFIEC 030S).

Estimated Total Annual Burden: 11.79 burden hours.

I. Legal Basis and Need for Collection

This information collection is mandatory: 12 U.S.C. 602 (Board); 12 U.S.C. 161 and 602 (OCC); and 12 U.S.C. 1828 (FDIC). This information collection is given confidential treatment under 5 U.S.C. 552(b)(4) and (8).

The FFIEC 030 collects asset and liability information for foreign branches of insured U.S. banks and insured U.S. savings associations (U.S. depository institutions) and is required for regulatory and supervisory purposes. The information is used to analyze the foreign operations of U.S. institutions. All foreign branches of U.S. institutions regardless of charter type file this report as provided in the instructions to the FFIEC 030 and FFIEC 030S.

A U.S. depository institution generally must file a separate report for each foreign branch, but in some cases may consolidate filing for multiple foreign branches in the same country, as described below.

A branch with either total assets of at least $2 billion or commitments to purchase foreign currencies and U.S. dollar exchange of at least $5 billion as of the end of a calendar quarter is considered a “significant branch” and an FFIEC 030 report is required to be filed quarterly. A U.S. depository institution with a foreign branch having total assets in excess of $250 million that does not meet either of the criteria to file quarterly must file the entire FFIEC 030 report for this foreign branch on an annual basis as of December 31, with respect to this foreign branch.

A U.S. depository institution with a foreign branch having total assets of $50 million, but less than or equal to $250 million that does not meet the criteria to file the FFIEC 030 report must file the FFIEC 030S report for this foreign branch on an annual basis as of December 31, with respect to this foreign branch. A U.S. depository institution with a foreign branch having total assets of less than $50 million is exempt from filing the FFIEC 030 and 030S reports.

II. Current Actions

The FR 2502q collects data on the claims and liabilities with U.S.-resident versus foreign-resident counterparties on the balance sheets of major foreign branches and large banking subsidiaries of U.S. head offices of bank holding companies, commercial banks and Edge and agreement corporations.¹ For the reporting purposes of the FR 2502q, large foreign branches are currently defined as those that file the Foreign Branch Report of Condition (FFIEC 030; OMB No. 7100-0071) with total assets, Schedule BS, item 11, of $2 billion or more. Large banking subsidiaries are defined as those that file the Financial Statements of Foreign Subsidiaries of U.S. Banking Organizations (FR 2314; OMB No. 7100-0073) quarterly, have a banking charter, and have assets of $2 billion or more and deposits of $10 million or more, Schedule BS, item 10, and Schedule BS-M, item 6, respectively.

¹ Prior to 2015, the FR 2502q collected a full geographic distribution of claims and liabilities from these respondents. However, data on individual foreign counterparty countries became redundant with the expansion of other international data collections.

The Division of International Finance at the Board has an interest in knowing the amounts of the claims and liabilities of U.S.-chartered banks with respect to residents of the U.S. The FR 2502q provides data about activities in foreign offices by location and type of offices that are unavailable from other reporting forms. For example, because banks' submissions that underlie the quarterly Federal Financial Institutions Examination Council (FFIEC) Country Exposure Report (FFIEC 009; OMB No. 7100-0035) are consolidated on a worldwide basis, they do not indicate which particular offices are involved in lending to or borrowing from U.S. or foreign residents.

Following a 2015 revision that substantially reduced the size of the FR 2502q report, the Board has assessed its use of the data collected in the FR 2502q and has determined that the data could instead be effectively collected through the FR 2314 and FFIEC 030, and that doing so would reduce overall respondent burden.

In addition, standardizing the collection of foreign branch lending data through the FFIEC reporting process will improve useability by the OCC and FDIC. The current 2502q collection is managed and run solely by the Board. The proposed shift of certain items to the FFIEC 030 will make it easier for the OCC and FDIC to use the data reported in those items, as well as providing those agencies with a more direct role in proposing changes to the data items to improve the usefulness of the collection for all three agencies.

Therefore, the agencies propose to add a new schedule to the FFIEC 030 to collect the information currently collected by the FR 2502q and add additional line items to collect granular detail related to loans and lease receivables. The title of the new schedule would be: “Schedule RAL-A—Due From, Due To, and Other.” In addition, the agencies are adding a schedule name to the current Assets; Liabilities; Derivatives and Off-Balance-Sheet Items; and Memoranda section of the report form. The title of this schedule will be “RAL—Assets and Liabilities.” Adding a schedule name to this section will help separate the current items from the proposed new items that will only be applicable to respondents that are required to submit their FFIEC 030 report on a quarterly basis. Respondents that submit their FFIEC 030 report on an annual basis will not need to complete the proposed new schedule.

Eight of the proposed line items would provide a granular breakout of what is currently collected on line items 8, 9, 16, and 17. The remaining six proposed line items would be new to the FFIEC 030 report. The agencies propose to incorporate the following line items from the FR 2502q into FFIEC 030, Schedule RAL-A—Due From, Due To, and Other:

Item 1a: Gross due from head office and U.S. branches of this bank

Item 1b: Gross due from other foreign branches of this bank

Item 2a: Gross due from consolidated subsidiaries of this bank in the U.S.

Item 2b: Gross due from consolidated subsidiaries of this bank in foreign countries

Item 3a: Gross due to head office and U.S. branches of this bank

Item 3b: Gross due to other foreign branches of this bank

Item 4a: Gross due from consolidated subsidiaries of this bank in the U.S.

Item 4b: Gross due from consolidated subsidiaries of this bank in foreign countries

Item 5: Assets that are claims on U.S. addressees other than depository institutions

Item 6: Liabilities to U.S. addressees other than depository institutions

In addition, the proposed line items below would provide the agencies with more granular data about certain categories of loans and lease receivables, which is expected to be reported in the balance of line item 5 above. Collection of the additional line items would provide the agencies with the ability to analyze lending by foreign branches of U.S. banks to U.S. addresses in different sectors. For example, it is not uncommon for foreign branches to make loans secured by U.S. real estate. As lending to nondepository institutions continues to increase, segmenting the lending between foreign and U.S. addresses improves the ability of agencies to assess risks to this type of lending. The same reasoning applies to commercial and industrial loans and all other loans and leases. The proposed sub-set of line items are as follows:

Assets that are claims on U.S. addressees other than depository institutions:

Item 5a: Loans secured by real estate

Item 5b: Loans to nondepository financial institutions

Item 5c: Commercial and industrial loans

Item 5d: All other loans and all leases

These proposed revisions would reduce the burden on respondents and assist the agencies in meeting shared data needs with shared resources. The Board will propose similar revisions to the FR 2314 in a separate notice. If these revisions are adopted, the Board expects to discontinue the FR 2502q, effective as of June 30, 2024.

III. Timing

The proposed revisions to the FFIEC 030 would first take effect as of the June 30, 2024, report date. The agencies invite comment on any difficulties that institutions would expect to encounter in implementing the systems changes necessary to accommodate the proposed revisions to the FFIEC 030.

IV. Request for Comment

Public comment is requested on all aspects of this joint notice. Comment is specifically invited on:

(a) Whether the information collection is necessary for the proper performance of the agencies' functions, including whether the information has practical utility;

(b) The accuracy of the agencies' estimate of the burden of the information collection, including the validity of the methodology and assumptions used;

(c) Ways to enhance the quality, utility, and clarity of the information to be collected;

(d) Ways to minimize the burden of the information collection on respondents, including through the use of automated collection techniques or other forms of information technology; and

(e) Estimates of capital or start up costs and costs of operation, maintenance, and purchase of services to provide information.

Comments submitted in response to this joint notice will be shared among the agencies.

Dated at Washington, DC, on January 10, 2024.
Theodore J. Dowd,
Deputy Chief Counsel, Office of the Comptroller of the Currency.
Board of Governors of the Federal Reserve System.
Michele Taylor Fennell,
Deputy Associate Secretary of the Board.
Federal Deposit Insurance Corporation.
James P. Sheesley,
Assistant Executive Secretary.

[FR Doc. 2024-00970 Filed 1-18-24; 8:45 am]

BILLING CODE 4810-33-P; 6210-01-P; 6714-01-P